DEPARTMENT OF HOMELAND SECURITY

Federal Emergency Management Agency

[Docket ID FEMA-2021-0006; OMB No. 1660-0058]

Agency Information Collection Activities: Submission for OMB Review; Comment Request; Fire Management Assistance Grant Program

AGENCY: Federal Emergency Management Agency, Department of Homeland Security.

ACTION: 30 Day notice of renewal and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Antonio Jones, FMAG Program Specialist, Office of Response & Recovery, FEMA, at antonio.jones@fema.dhs.gov or (540) 320-1928.

SUPPLEMENTARY INFORMATION: This proposed information collection previously published in the Federal Register on February 24, 2021, at 86 FR 11318 with a 60-day public comment period. Three comments were received during that period and one comment (FEMA-2021-0006-0002) was not germane. The other two comments (FEMA-2021-0006-0003 and FEMA-2021-0006-0004) recommended that FEMA discontinue the Fire Management Assistance Grant Program (FMAGP). FEMA has considered these comments, but declines to make any changes to the FMAGP as a result of it. The FMAGP was established under Section 420 of the Robert T. Stafford Disaster Relief and Emergency Assistance Act (Stafford Act), 42 U.S.C 5187, as amended by § 303 of the Disaster Mitigation Act of 2000, which authorizes the President to provide assistance to any state or local government for the mitigation, management, and control of any fire on public or private forest land or grassland that threatens such destruction as would constitute a major disaster. FEMA has implemented this program through 44 CFR part 204. Absent a change to the Stafford Act, FEMA will continue implementing the FMAGP. Moreover, discontinuing this program would negatively impact many Regions and states that receive grant funding under this program for disaster recovery purposes. The purpose of this notice is to notify the public that FEMA will submit the information collection abstracted below to the Office of Management and Budget for review and clearance.

Collection of Information

Title: Fire Management Assistance Grant Program.

Type of information collection: Extension, without change, of a currently approved information collection.

OMB Number: 1660-0058.

Form Titles and Numbers: FEMA Form FF-104-FY-21-165 (formerly FEMA Form 078-0-2), Request for Fire Management Assistance Declaration; FEMA Form FF-104-FY-21-167 (formerly FEMA Form 089-0-24), Request for Fire Management Sub-grant; FEMA Form FF-104-FY-21-166 (formerly FEMA Form 078-0-1), Principal Advisor's Report.

Abstract: The information collection is required to make grant eligibility determinations for the Fire Management Assistance Grant Program. These eligibility-based grants and subgrants provide assistance to any eligible state, tribal government, or local government for the mitigation, management, and control of a fire on public or private forest land or grassland that is threatening such destruction as would constitute a major disaster. The information gathered in the forms is used to determine the severity of the threatening fire, current and forecast weather conditions, and associated factors related to the fire and its potential threat as a major disaster.

Affected Public: State, Tribal, or Local Governments.

Estimated Number of Respondents: 178.

Estimated Number of Responses: 553.

Estimated Total Annual Burden Hours: 811.

Estimated Total Annual Respondent Cost: $68,294.

Estimated Respondents' Operation and Maintenance Costs: $0.

Estimated Respondents' Capital and Start-Up Costs: $0.

Estimated Total Annual Cost to the Federal Government: $630,971.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-22851 Filed 10-19-21; 8:45 am]

BILLING CODE 9111-23-P